DEPARTMENT OF HEALTH AND HUMAN SERVICES

Centers for Disease Control and Prevention

[30Day-15-1005]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Older Adult Safe Mobility Assessment Tool (OMB Control No. 0920-1005, Discontinued 10/31/2014)—Reinstatement—National Center for Injury Prevention and Control (NCIPC), Centers for Disease Control and Prevention (CDC).

Background and Brief Description

The CDC seeks to reinstate, with change, a previously approved information collection entitled “Older Adult Safe Mobility Assessment Tool” (OMB Control No. 0920-1005).

Within the NCIPC, preventing falls and ensuring safe transportation for older adults are strategic priorities. The purpose of this information collection is to evaluate whether the Mobility Planning Tool is effective for promoting readiness to adopt mobility-protective behaviors in older adults and 2) assess potential strategies for dissemination of the MPT.

Information will be collected by surveying older adults, aged 60-74 years, who are living in the community (non-institutionalized), and have good mobility. An initial survey will be administered to 1000 adults, half (500) will be sent the MPT, and then 900 adults will be surveyed again.

Effectiveness of the tool will be assessed using two different comparisons: (1) A comparison between individuals' attitudes and behaviors related to protecting their mobility as they age before and after receiving the MPT in the group that received the MPT, and (2) a comparison of both mobility-related attitudes and behaviors and changes between the group that received the MPT and the group that did not receive the MPT.

Study findings will be used to identify areas of the MPT that may need revision before it is disseminated publicly.

The previous data collection gathered older adults' impressions, and based on their feedback, MPT tool has now been redesigned and oriented toward mobility planning rather than mobility assessment. This reinstatement request is to conduct a randomized controlled trial on the revised tool to determine if the tool promotes readiness in older adults to adopt mobility-protective behaviors, and appropriate ways to disseminate the tool.

There are no costs to respondents other than their time. The total estimated annual burden hours are 734.

Estimated Annualized Burden Hours
Type of respondents | Form name | Number of respondents | Number of responses per respondent | Average burden per response (in hours)
Individuals Responding to Initial Phone Call Who Refuse to be Screened | Screening Interview Guide | 2,500 | 1 | 1/60
Individuals Responding to Initial Phone Call Responding to Screening Questions | Screening Interview Guide | 1,500 | 1 | 5/60
Study Participants | Baseline Interview Guide | 1,000 | 1 | 10/60
Study Participants | MPT | 500 | 1 | 30/60
Study Participants | Follow-up Interview Guide | 900 | 1 | 10/60

Leroy A. Richardson,
Chief, Information Collection Review Office, Office of Scientific Integrity, Office of the Associate Director for Science, Office of the Director, Centers for Disease Control and Prevention.

[FR Doc. 2015-18947 Filed 7-31-15; 8:45 am]

BILLING CODE 4163-18-P